DEPARTMENT OF ENERGY

Federal Energy Regulatory Commission

18 CFR Part 40

Docket No. RM09-19-000; Order No. 746]

Western Electric Coordinating Council Qualified Transfer Path Unscheduled Flow Relief Regional Reliability Standard

AGENCY: Federal Energy Regulatory Commission, Energy.

ACTION: Final rule.

SUMMARY: Under section 215 of the Federal Power Act, the Commission approves regional Reliability Standard of the Western Electricity Coordinating Council (WECC) IRO-006-WECC-1 (Qualified Transfer Path Unscheduled Flow Relief) and six associated new definitions submitted to the Commission for approval by the North American Electric Reliability Corporation. This Reliability Standard is intended to mitigate transmission overloads due to unscheduled flow on a transfer path designated by WECC as being qualified for unscheduled flow mitigation.

DATES: Effective Date: This rule will become effective May 24, 2011.

FOR FURTHER INFORMATION CONTACT:

Terence Burke (Legal Information), Office of the General Counsel, Federal Energy Regulatory Commission, 888 First Street, NE., Washington, DC 20426, (202) 502-6498.

Danny Johnson (Technical Information), Office of Electric Reliability, Federal Energy Regulatory Commission, 888 First Street, NE., Washington, DC 20426, (202) 502-8892.

SUPPLEMENTARY INFORMATION:

Before Commissioners: Jon Wellinghoff, Chairman; Marc Spitzer, Philip D. Moeller, John R. Norris, and Cheryl A. LaFleur.

Final Rule

1. Under section 215 of the Federal Power Act (FPA),¹ the Commission approves regional Reliability Standard of the Western Electricity Coordinating Council (WECC) IRO-006-WECC-1 (Qualified Transfer Path Unscheduled Flow Relief) and six associated new definitions submitted to the Commission for approval by the North American Electric Reliability Corporation (NERC), the Electric Reliability Organization (ERO) certified by the Commission. The approved Reliability Standard is intended to mitigate transmission overloads due to unscheduled flow on Qualified Transfer Paths.²

¹ 16 U.S.C. 824o.

² The term “Qualified Transfer Path” is defined as “[a] transfer path designated by the WECC Operating Committee as being qualified for WECC unscheduled flow mitigation.” When the Standard becomes effective, this definition will be added to the NERC Glossary of Terms Used in Reliability Standards.

I. Background

A. NERC Reliability Standard IRO-006

2. On March 16, 2007, the Commission issued Order No. 693 approving 83 Reliability Standards proposed by NERC, including Interconnection Reliability Operations and Coordination (IRO) Reliability Standard IRO-006-3, titled “Reliability Coordination—Transmission Loading Relief.” ³ In addition, under section 215(d)(5) of the FPA, the Commission directed the ERO to develop modifications to IRO-006-3 and other approved Reliability Standards to address specific issues identified by the Commission.

³ Mandatory Reliability Standards for the Bulk-Power System, Order No. 693, FERC Stats. & Regs. ¶ 31,242, order on reh'g, Order No. 693-A, 120 FERC ¶ 61,053 (2007).

3. NERC Reliability Standard IRO-006-3 establishes a Transmission Loading Relief (TLR) process for use in the Eastern Interconnection to alleviate loadings on the system by curtailing or changing transactions based on their priorities and according to different levels of TLR procedures. Requirement R2.2 provides that “the equivalent Interconnection-wide transmission loading relief procedure for use in the Western Interconnection is the WECC Unscheduled Flow Mitigation Plan.” This document provides detailed instructions for addressing unscheduled flows, i.e., parallel path flows, based on the topography and configuration of the Bulk-Power System in the Western Interconnection. The Unscheduled Flow Mitigation Plan identifies nine “steps” to address unscheduled flows. In the first three steps, the Mitigation Plan relies on phase angle regulators, series capacitors, and back-to-back DC lines to mitigate contingencies without curtailing transactions. Steps four through nine involve curtailment of transactions.

4. On March 19, 2009, the Commission approved IRO-006-4, which modified the prior version of the Reliability Standard and addressed the Commission's directives from Order No. 693.⁴ The Commission subsequently accepted an erratum to that Reliability Standard that corrected the reference in Requirement R1.2 to the Unscheduled Flow Mitigation Plan (Mitigation Plan).⁵

⁴ Modification of Interchange and Transmission Loading Relief Reliability Standards; and Electric Reliability Organization Interpretation of Specific Requirements of Four Reliability Standards, Order No. 713-A, 126 FERC ¶ 61,252 (2009), reh'g denied, Order No. 713-B, 130 FERC ¶ 61,032 (2010).

⁵ North American Electric Reliability Corp., Docket No. RD09-9-000 (Dec. 10, 2009) (unpublished letter order). Note that Reliability Standard IRO-006-4.1, Requirement R1.2 refers to the “WECC Unscheduled Flow Reduction Procedure,” which is Attachment 1 to the Mitigation Plan, the term we use herein.

B. WECC Delegation Agreement and WECC Regional Reliability Standard IRO-STD-006-0

5. On April 19, 2007, the Commission approved delegation agreements between NERC and each of the eight Regional Entities, including WECC.⁶ In that approval, the Commission accepted WECC as a Regional Entity organized on an Interconnection-wide basis and accepted WECC's Standards Development Manual, which sets forth the process for development of WECC's Reliability Standards.⁷

⁶ See North American Electric Reliability Corp., 119 FERC ¶ 61,060, order on reh'g, 120 FERC ¶ 61,260 (2007).

⁷ Id. P 469-470.

6. On June 8, 2007, the Commission approved eight WECC regional Reliability Standards that apply in the Western Interconnection, including IRO-STD-006-0.⁸ The regional Reliability Standard applies to transmission operators, load-serving entities and balancing authorities within the Western Interconnection. It addresses the mitigation of transmission overloads due to unscheduled line flow on specified paths. Specifically, Requirement R1 of IRO-STD-006-0 states that:

⁸ North American Electric Reliability Corp., 119 FERC ¶ 61,260 (2007) (June 8, 2007 Order).

WECC's Unscheduled Flow Mitigation Plan (Plan) * * * specifies that members shall comply with requests from (Qualified) Transfer Path Operators to take actions that will reduce unscheduled flow on the Qualified Path in accordance with the table entitled “WECC Unscheduled Flow Procedure Summary of Curtailment Actions,” which is located in Attachment 1 of the Plan.⁹

⁹ Regional Reliability Standard IRO-STD-006-0, available at http://www.wecc.biz/Standards/Approved%20Standards/IRO-STD-006-0.pdf.

The regional Reliability Standard then provides excerpts from the plan that describe actions entities must take to address unscheduled flow.

7. The June 8, 2007 Order directed WECC to develop certain modifications to the eight WECC Reliability Standards to address issues identified by the Commission. With respect to IRO-STD-006-0, the Commission directed WECC to clarify the term “receiver” used in the Reliability Standard. The Commission also directed WECC to address concerns raised by a commenter regarding WECC's inclusion of load-serving entities, which may be unable to meet the Reliability Standard's requirements, in the applicability section of the Reliability Standard.¹⁰ The Commission directed WECC to remove a Sanctions Table that is inconsistent with the NERC Sanctions Guidelines. The Commission also directed WECC to address NERC's concerns regarding formatting, use of standard terms, and the need for greater specificity in the actions that a responsible entity must take.

¹⁰ June 8, 2007 Order, 119 FERC ¶ 61,260 at P 70-71.

C. Proposed Regional Reliability Standard

8. In a June 17, 2009 filing (NERC Petition), NERC requested Commission approval of proposed regional Reliability Standard IRO-006-WECC-1, which was developed in response to the Commission's directives in the June 8, 2007 Order, to replace the currently effective regional Standard. NERC stated that the purpose of IRO-006-WECC-1 is to mitigate transmission overloads due to unscheduled flow on Qualified Transfer Paths. Under the Reliability Standard, reliability coordinators are responsible for initiating schedule curtailments, and balancing authorities are responsible for implementing the curtailments. Specifically, proposed regional Reliability Standard IRO-006-WECC-1 contains the following two Requirements:

R.1. Upon receiving a request of Step 4 or greater (see Attachment 1-IRO-006-WECC-1) from the Transmission Operator of a Qualified Transfer Path, the Reliability Coordinator shall approve (actively or passively) or deny that request within five minutes.

R.2. The Balancing Authorities shall approve curtailment requests to the schedules as submitted, implement alternative actions, or a combination there of that collectively meets the Relief Requirement.

An attachment to IRO-006-WECC-1 summarizes the nine steps and related actions to address unscheduled flows.

D. Notice of Proposed Rulemaking

9. On October 29, 2010, the Commission issued its Notice of Proposed Rulemaking proposing to approve the regional IRO Reliability Standard IRO-006-WECC-1.¹¹ In addition, the Commission raised concerns with respect to: (1) How entities will know whether to follow the national or regional Standard in a given situation; (2) WECC's and NERC's reliance on TOP-007-WECC-1 to ensure that entities manage power flows using steps one through three of the Mitigation Plan prior to requesting curtailments; (3) how the webSAS ¹² tool will work with respect to the national and regional Standard; and (4) the potential reliability impact of reliability coordinators' inability to request curtailments.

¹¹ Western Electric Coordinating Council Qualified Transfer Path Unscheduled Flow Relief Regional Reliability Standard, Notice of Proposed Rulemaking, 75 FR 66702 (Oct. 29, 2010), FERC Stats & Regs. ¶ 32,663 (2010) (NOPR).

¹² The webSAS (Security Analysis System) is a proprietary internet based application that is used by WECC to analyze, initiate, communicate, and provide compliance reports for implementation of the Unscheduled Flow Reduction Procedure. It is available by subscription through the vendor to provide notification of Unscheduled Flow Events, calculate and display required relief, and provide a rapid method of transaction curtailments.

10. In response to the NOPR, comments were filed by NERC, WECC, and Nevada Power Company and Sierra Pacific Power Company, both d/b/a NV Energy (NV Energy). In the discussion below, we address these comments.

II. Discussion

A. Approval of IRO-006-WECC-1

11. In the NOPR, the Commission proposed to approve regional Reliability Standard IRO-006-WECC-1 stating that it adequately addresses a number of the directives identified in the June 8, 2007 Order and represents an improvement to the current Standard. As stated in the NOPR, the Standard addresses our concern regarding the use of the term “receiver” by removing the term, thus removing potential confusion arising from the use of the undefined term. The Reliability Standard also provides additional clarity by removing load-serving entities from its applicability section since load-serving entities may not be able to meet the Standard's requirements regarding curtailment procedures. Further, the Standard includes reliability coordinators as an applicable entity and addresses their role in curtailment procedures. The Standard goes beyond the corresponding NERC Reliability Standard by requiring a reliability coordinator to approve or deny a transmission operator's curtailment request within five minutes. Finally, the WECC Reliability Standard addresses formatting concerns, conformance with NERC's Violation Severity Level and Violation Risk Factor matrix, and the elimination of a WECC sanction table. NERC, WECC, and NV Energy all support approval. Accordingly the Commission adopts the NOPR proposal and approves regional Reliability Standard IRO-006-WECC-1 as just, reasonable, not unduly discriminatory or preferential, and in the public interest.

12. We raised in the NOPR several concerns regarding how the regional Reliability Standard would work in practice to ensure Reliable Operation in the Western Interconnect. As a result of the comments submitted, our concerns have been adequately addressed, and we do not direct any modifications to the regional Reliability Standard.

B. Issues Raised in NOPR

1. Consistency Between NERC and WECC

13. Requirement R1.2 in NERC Reliability Standard IRO-006-4 refers to the WECC Unscheduled Flow Reduction Procedure with regard to transmission loading relief in the Western Interconnection. In the NOPR, the Commission requested comment on the interaction between the differing requirements contained in the regional versus the national Reliability Standards, on which of the two Standards' requirements take precedence, and on how NERC intends to ensure compliance and consistent enforcement with regard to the Standards.

Comments

14. WECC and NV Energy comment that the Standards differ in their applicability. They state that NERC's IRO-006-4 addresses the obligations of the reliability coordinator and the balancing authority if an Interconnection-wide procedure is selected for the mitigation of overloads on transmission facilities. According to WECC and NV Energy, Regional Reliability Standard IRO-006-WECC-1 sets out reliability obligations for the reliability coordinator and balancing authority regarding transmission loading relief on the narrow subset of Western Interconnect transmission facilities designated as Qualified Transfer Paths. The two commenters assert there is no conflict between the NERC Reliability Standard and the regional Standard, as they work together.

15. NERC states that it recognized some potential for confusion in this matter and will soon file for approval a proposed Reliability Standard IRO-006-5 ¹³ that, among other things, eliminates reference to the WECC Unscheduled Flow Reduction Procedure as a procedure that may be selected by the reliability coordinator to achieve loading relief and, instead, mentions the procedure as an example for which coordination must occur.

¹³ Subsequent to filing its comments in this Docket, NERC filed its Petition for Approval of Proposed New Interconnection Reliability Operations and Coordination Reliability Standards, Glossary Term and Implementation Plan on January 13, 2011 in Docket No. RD11-2-000.

Commission Determination

16. The Commission finds that NERC's plan to eliminate the opportunity for confusion with respect to this Reliability Standard adequately addresses the concerns raised in the NOPR.

2. TOP-007-WECC-1 and the Mitigation Plan

17. In the June 8, 2007 Order, the Commission determined that the regional Reliability Standard IRO-STD-006-0 is superior to the NERC Standard based in part on the specified pre-curtailment steps one through three of the Mitigation Plan.¹⁴ As stated above, the Mitigation Plan is no longer referenced in IRO-006-WECC-1. The NERC Petition stated that proposed WECC regional Reliability Standard TOP-007-WECC-1, would work in conjunction with IRO-006-WECC-1 to ensure that pre-curtailment steps one through three of the Mitigation Plan are performed.¹⁵ In the NOPR, the Commission requested comment as to whether WECC's reliance on proposed regional Standard TOP-007-WECC-1 or currently effective Reliability Standard TOP-STD-007-0 (whichever is in effect) is an adequate replacement for the currently required pre-curtailment actions set forth in steps one through three of the Mitigation Plan.

¹⁴ June 18, 2007 Order, 119 FERC ¶ 61,260 at P 69.

¹⁵ NERC's petition for approval of regional Reliability Standard TOP-007-WECC-1 is currently pending before the Commission in Docket No. RM09-14-000.

Comments

18. Each of the commenters note that Reliability Standard IRO-006-WECC-1 and the proposed regional Standard TOP-007-WECC-1 were intended to meet the performance objective of enhanced reliability but not to prescribe a specific method for achieving that objective. WECC and NV Energy assert that the pre-curtailment steps were not mandatory, but, as before, they remain tools available to transmission operators for the mitigation of transmission facility overloading. WECC states that reliability would suffer if transmission operators were limited in their action by a mandatory adherence to the Mitigation Plan.

Commission Determination

19. The Commission acknowledges the comments offered and is satisfied that IRO-006-WECC-1 does not present a reduction in reliability. The Commission also highlights the comment made by WECC that the Standard is applicable to reliability coordinators and balancing authorities, not to transmission operators. Under the Standard, the reliability coordinator must approve or deny the implementation of a step four or higher action, and the balancing authority must grant relief so the transmission operator does not violate a system operating limit (SOL) or an interconnection reliability operating limit (IROL) operating limit. But transmission operator's obligations remain unchanged by IRO-006-WECC-1. They continue to be required to take immediate steps to relieve an SOL or IROL operating limit violation.

3. Operation of webSAS

20. According to the NERC Petition, the webSAS tool calculates curtailment and, unless the reliability coordinator actively denies the request, approves the curtailment within five minutes. The Commission requested in the NOPR additional information regarding how the webSAS program works in relation to WECC's proposed IRO-006-WECC-1 as well as the currently effective IRO-006-4, and whether conflicts could arise between the webSAS programming and the Mitigation Plan.

Comments

21. NV Energy and WECC comments describe of the webSAS program, explaining that it utilizes impedance modeling of the transmission network in the Western Interconnection and is able to determine transmission distribution factors that correspond to discrete transactions. It is configured to prescribe curtailments in accordance with the curtailment table in the WECC Unscheduled Flow Reduction Procedure, and is only one of the methods a balancing authority might use in devising curtailments. WECC notes that webSAS merely suggests strategies; the responsible balancing authority must implement those strategies. WECC further comments that WebSAS operates similarly whether utilized under the regional or the national Reliability Standard.

Commission Determination

22. The Commission is satisfied with the commenters' explanation of the operation of webSAS, as well as its proposed use within the mitigation process set out in Reliability Standard IRO-006-WECC-1.

4. Reliability Coordinators' Role in Curtailment

23. In the NOPR the Commission stated that, because reliability coordinators are the only entities with the wide-area view, the Commission believes it is appropriate that they, as the entities with the highest level of authority to ensure reliability, have the ability to initiate relief procedures.¹⁶ In the NOPR, the Commission requested comment regarding its concerns that the proposed regional Reliability Standard does not mention the reliability coordinators' ability to request curtailments, and that automatic approval of curtailments may occur through the webSAS tool without reliability coordinator review.

¹⁶ NOPR, FERC Stats. & Regs. ¶ 32,663 at P 30.

Comments

24. WECC and NV Energy comment that the reliability coordinator always has the ability to issue directives or take other actions to ensure Reliable Operations under the authority granted in Reliability Standard IRO-001-1.1. NV Energy states that the automatic approval of requested curtailments after five minutes is an appropriate balance between allowing for the reliability coordinators' participation and adequately ensuring that transmission loading relief is obtained for the next hour.

Commission Determination

25. The Commission agrees with the commenters that NERC Reliability Standard IRO-001-1.1 provides the reliability coordinator authority to take actions to ensure Reliable Operations, and no further clarification is required.

5. Alternative Revisions

26. Because of the concerns expressed in the NOPR, the Commission questioned whether it might be more efficient and appropriate if all the WECC rules and procedures with respect to unscheduled flow mitigation were incorporated in a single document.

Comments

27. WECC asserts that regional Reliability Standard IRO-006-4 does not mandate following the Mitigation Plan but only suggests that the Mitigation Plan is a procedure available to a reliability coordinator. Therefore, incorporating the WECC rules and procedures into the Mitigation Plan would not eliminate the need for an enforceable regional Reliability Standard. WECC also comments that the differing purposes of the Mitigation Plan, IRO-006-WECC-1, and TOP-007-WECC-1 would thwart efforts to combine them. NERC notes that it has already undertaken eliminating the regional differences from the continent-wide standard in its proposed IRO-006-5.

Commission Determination

28. The clarification provided by WECC adequately addresses the Commission's concerns. Accordingly, the Commission finds that IRO-006-WECC-1 represents an improvement to reliability.

III. Information Collection Statement

29. The following collections of information contained in this Reliability Standard have been submitted to the Office of Management and Budget (OMB) for review under section 3507(d) of the Paperwork Reduction Act of 1955.¹⁷ OMB's regulations require OMB to approve certain information collection requirements imposed by agency rule.¹⁸

¹⁷ 44 U.S.C. 3507(d).

¹⁸ 5 CFR 1320.11.

30. The Commission solicited comments on the burden to implement IRO-006-WECC-1 which, rather than creating entirely new requirements, instead modifies the existing regional Reliability Standard governing qualified transfer path unscheduled flow relief and thus imposes a minimal additional burden on the affected entities. The Commission received no comments as to the issue of reporting burden estimates. The Commission has not directed any modifications to the Requirements of the Reliability Standard being approved. Thus this Final Ruled does not materially or adversely affect the burden estimates provided in the NOPR.

31. Burden Estimate: The burden for the requirements in this final rule follow:

Data collection FERC-725E | Number of respondents | Number of responses | Hours per response | Total annual hours
35 Balancing Authorities and 1 Reliability Coordinator—Reporting Requirement | 36 | 1 | 1 | 36
35 Balancing Authorities and 1 Reliability Coordinator—Recordkeeping Requirement | 36 | 1 | 1 | 36
Total |  |  |  | 72

Total Annual hours for Collection: 36 reporting +36 recordkeeping = 72 hours.

Reporting = 36 hours @ $120/hour = $4320.

Recordkeeping = 36 hours @ $40/hour = $1440.

Total Costs = Reporting ($4320) + Recordkeeping ($1440) = $5760.

Title: FERC 725E, Mandatory Reliability Standards for the Western Electric Coordinating Council.

Action: Proposed collection of information.

OMB Control No: 1902-0246.

Respondents: Balancing Authorities and Reliability Coordinator in the Western Electricity Coordinating Council.

Frequency of Responses: On Occasion.

Necessity of the Information: This Final Rule would approve a revised Reliability Standard modifying the existing requirement for entities to respond to requests for curtailment. The proposed Reliability Standard requires entities to maintain documentation evidencing their response to such requests.

Internal review: The Commission has reviewed the requirements pertaining to proposed regional Reliability Standard IRO-006-WECC-1 and believes it to be just, reasonable, not unduly discriminatory or preferential, and in the public interest. These requirements conform to the Commission's plan for efficient information collection, communication and management within the energy industry. The Commission has assured itself, by means of internal review, that there is specific, objective support for the burden estimates associated with the information requirements.

32. Interested persons may obtain information on the reporting requirements by contacting: Federal Energy Regulatory Commission, 888 First Street, NE., Washington, DC 20426 [Attention: Ellen Brown, Office of the Executive Director, Phone: (202) 502-8663, fax: (202) 273-0873, e-mail: DataClearance@ferc.gov]. Comments on the requirements of this Final Rule may also be sent to the Office of Information and Regulatory Affairs, Office of Management and Budget, Washington, DC 20503 [Attention: Desk Officer for the Federal Energy Regulatory Commission]. For security reasons, comments should be sent by e-mail to OMB at: oira submission@omb.eop.gov. Please reference OMB Control Number 1902-0246 and the docket number of this final rulemaking in your submission.

IV. Environmental Analysis

33. The Commission is required to prepare an Environmental Assessment or an Environmental Impact Statement for any action that may have a significant adverse effect on the human environment.¹⁹ The action taken in the Final Rule fall within the categorical exclusion in the Commission's regulations for rules that are clarifying, corrective or procedural, for information gathering, analysis, and dissemination.²⁰ Accordingly, neither an environmental impact statement nor an environmental assessment is required.

¹⁹ Regulations Implementing the National Environmental Policy Act, Order No. 486, 52 FR 47897 (Dec. 17, 1987), FERC Stats. & Regs., Regulations Preambles 1986-1990 ¶ 30,783 (1987).

²⁰ 18 CFR 380.4(a)(5).

V. Regulatory Flexibility Act

34. The Regulatory Flexibility Act of 1980 (RFA) ²¹ generally requires a description and analysis of final rules that will have significant economic impact on a substantial number of small entities. The RFA mandates consideration of regulatory alternatives that accomplish the stated objectives of a proposed rule and that minimize any significant economic impact on a substantial number of small entities. The Small Business Administration's (SBA) Office of Size Standards develops the numerical definition of a small business.²² The SBA has established a size standard for electric utilities, stating that a firm is small if, including its affiliates, it is primarily engaged in the transmission, generation and/or distribution of electric energy for sale and its total electric output for the preceding twelve months did not exceed four million megawatt hours.²³

²¹ 5 U.S.C. 601-612.

²² 13 CFR 121.101.

²³ 13 CFR 121.201, Sector 22, Utilities & n. 1.

35. Most of the entities (i.e., reliability coordinators and balancing authorities) to which the requirements of this Rule would apply do not fall within the definition of small entities. The Commission estimates that only 2-4 of the 35 balancing authorities are small and that the economic impact on each of these is $160 per year. The Commission does not consider this to be a significant economic impact. Based on the foregoing, the Commission certifies that this Rule will not have a significant impact on a substantial number of small entities. Accordingly, no regulatory flexibility analysis is required.

VI. Document Availability

36. In addition to publishing the full text of this document in the Federal Register, the Commission provides all interested persons an opportunity to view and/or print the contents of this document via the Internet through FERC's Home Page (http://www.ferc.gov) and in FERC's Public Reference Room during normal business hours (8:30 a.m. to 5 p.m. Eastern time) at 888 First Street, NE., Room 2A, Washington, DC 20426.

37. From FERC's Home Page on the Internet, this information is available on eLibrary. The full text of this document is available on eLibrary in PDF and Microsoft Word format for viewing, printing, and/or downloading. To access this document in eLibrary, type the docket number excluding the last three digits of this document in the docket number field.

38. User assistance is available for eLibrary and the FERC's Web site during normal business hours from FERC Online Support at (202) 502-6652 (toll free at 1-866-208-3676) or e-mail at ferconlinesupport@ferc.gov, or the Public Reference Room at (202) 502-8371, TTY (202) 502-8659. E-mail the Public Reference Room at public.referenceroom@ferc.gov.

VII. Effective Date and Congressional Notification

39. These regulations are effective May 24, 2011. The Commission notes that although the determinations made in this Final Rule are effective May 24, 2011, regional Reliability Standard IRO-006-WECC-1 approved in this Final Rule will not become effective until the first day of the first quarter after applicable regulatory approval. The Commission has determined, with the concurrence of the Administrator of the Office of Information and Regulatory Affairs of OMB, that this rule is not a “major rule” as defined in section 351 of the Small Business Regulatory Enforcement Fairness Act of 1996.

By the Commission.
Kimberly D. Bose,
Secretary.

[FR Doc. 2011-7040 Filed 3-24-11; 8:45 am]

BILLING CODE 6717-01-P